DEPARTMENT OF HOMELAND SECURITY

Federal Emergency Management Agency

[Docket ID: FEMA-2014-0012; OMB No. 1660-0004]

Agency Information Collection Activities: Proposed Collection; Comment Request; Application for Participation in the National Flood Insurance Program (NFIP)

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the collection of information under which communities submit information to FEMA for application and continued participation in the National Flood Insurance Program (NFIP).

DATES: Comments must be submitted on or before May 23, 2014.

ADDRESSES: To avoid duplicate submissions to the docket, please use only one of the following means to submit comments:

(1) Online. Submit comments at http://www.regulations.gov under Docket ID FEMA-2014-0012. Follow the instructions for submitting comments.

(2) Mail. Submit written comments to Docket Manager, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact David Stearrett, Branch Chief, Floodplain Management Branch, Mitigation Directorate, Risk Reduction Division at (202) 646-2953 for further information. You may contact the Records Management Division for copies of the proposed collection of information at facsimile number (202) 646-3347 or email address: FEMA-Information-Collections-Management@dhs.gov.

SUPPLEMENTARY INFORMATION: The National Flood Insurance Program (NFIP) codified at 42 U.S.C. 4001, et seq., requires all flood prone communities throughout the country to apply for participation in the NFIP one year after their flood prone identification or submit to the prohibition of certain types of federal and federally-related financial assistance for use in their floodplains. Title 44 Code of Federal Regulations (CFR) section 59.2 authorizes that previously unavailable flood insurance protection to property owners in flood-prone areas is now available, and 44 CFR 59.22 identifies the information that communities are required to submit to FEMA for application into the program. Title 44 CFR section 59.22 and section 59.24 identifies the information a community is required to submit to FEMA for continued participation in the program.

Collection of Information

Title: Application for Participation in the National Flood Insurance Program (NFIP).

Type of Information Collection: Revision of a currently approved information collection.

OMB Number: 1660-0004.

Form Titles and Numbers: FEMA Form 086-0-30, Application for Participation in the National Flood Insurance Program.

Abstract: The National Flood Insurance Program (NFIP) provides flood insurance to the communities that apply for participation and make a commitment to adopt and enforce land use control measures that are to protect development from future flood damages. The application form and supporting documentation will enable FEMA to continue to rapidly process new community applications and to thereby more quickly provide flood insurance protection to the residents in communities.

This collection has been updated to account for the burden hours associated with the community development permit process. To qualify for the NFIP, a participating community must adopt certain minimum standards in accordance with FEMA's regulations at 44 CFR 60.3, 60.4, and 60.5. In order to verify whether communities maintain such standards, the NFIP requires participating communities to retain documentation on development taking place in the flood hazard areas within the community. 44 CFR 59.22. Such information will be made available to FEMA upon request. This information assists FEMA to evaluate the effectiveness of a community's floodplain management program and participating property owners' eligibility for flood insurance. In the past the NFIP application did not account for burden hours associated with this collection of information.

The Application for Participation in the NFIP and the Community Development Permit Process are separate actions documented under the same collection.

Affected Public: State, local or Tribal Government.

Number of Respondents: 20,344.

Number of Responses: 88,306.

Estimated Total Annual Burden Hours: 221,121 hours.

Estimated Annualized Burden Hours and Costs
Type of respondent | Form name/form number | Number of respondents | Number of responses per respondent | Total number of responses | Avg. burden per response (in hours) | Total annual burden (in hours) | Avg. hourly wage rate | Total annual respondent cost
State, Local, or Tribal Government | FEMA Form 086-0-30/Application for Participation in the National Flood Insurance | 237 | 1 | 237 | 4 | 948 | $42.43 | $40,224
State, Local, or Tribal Government | Floodplain Development Documentation | 20,107 | 4.38 | 88,069 | 2.5 | 220,173 | 42.43 | 9,341,940.30
|  | 20,344 |  | 88,306 |  | 221,121 |  | 9,382,164.30
• Note: The “Avg. Hourly Wage Rate” for each respondent includes a 1.4 multiplier to reflect a fully-loaded wage rate.

Estimated Cost: The estimated annual cost to respondents for the hour burden is $9,382,164.30. There are no annual costs to respondents operations and maintenance costs for technical services. There is no annual start-up or capital costs. The cost to the Federal Government is $74,788.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 11, 2014.
Charlene D. Myrthil,
Director, Records Management Division, Mission Support Bureau, Federal Emergency Management Agency, Department of Homeland Security.

[FR Doc. 2014-06296 Filed 3-21-14; 8:45 am]

BILLING CODE 9110-12-P